DEPARTMENT OF THE INTERIOR

Bureau of Indian Affairs

Tribal Listening Sessions on Sacred Sites on Federal Lands

AGENCY: Bureau of Indian Affairs, Interior.

ACTION: Notice.

SUMMARY: Indian Affairs will conduct listening sessions with Indian tribes to obtain oral and written comments concerning sacred sites located on Federal lands. See the SUPPLEMENTARY INFORMATION section of this notice for details.

DATES: See the SUPPLEMENTARY INFORMATION section of this notice for the dates of the tribal listening sessions. We will consider all comments received by close of business on September 21, 2012.

ADDRESSES: See the SUPPLEMENTARY INFORMATION section of this notice for the locations of the tribal listening sessions. Submit comments by email to: consultation@bia.gov or by U.S. mail to: Office of the Assistant Secretary—Indian Affairs, U.S. Department of the Interior, attn.: Dion Killsback, Mail Stop 4141 MIB, Washington, DC 20240.

FOR FURTHER INFORMATION CONTACT: Dion Killsback, Counselor to the Assistant Secretary—Indian Affairs, (202) 208-6939.

SUPPLEMENTARY INFORMATION: The Department, through the Office of the Assistant Secretary—Indian Affairs, intends to develop policy to strengthen the protection of sacred sites on Federal lands. For many years the Department has received input on sacred sites and to that end, the Department is seeking input specific, but not limited to, the following topics regarding sacred sites

• Meanings of sacred sites and whether the Department should attempt to define the term “sacred site”;

• Personal views of existing Departmental practices or policies, if any, that should be revised to protect sacred sites and steps necessary to make appropriate revisions;

• Potential development of Departmental practices or policies to protect sacred sites;

• How the Department should facilitate tribal access to sacred sites;

• How the Department should control and grant access to tribally provided information regarding sacred sites;

• Whom the Department should include (recognized leaders of tribal government, tribal spiritual leaders, et.al.) in determining whether a site is considered “sacred” by a tribe.

Tribal listening sessions will be held at the following dates and locations:

Date | Time | Venue
August 13, 2012 | 1 p.m.-4 p.m | BIA Southwest Regional Office, Pete V. Domenici Building, 1001 Indian School Road, Albuquerque, New Mexico 87104, (505) 563-3103.
August 16, 2012 | 9 a.m.-12 p.m | Holiday Inn-Grand Montana-Billings, 5500 Midland Road, Billings, Montana 59101, (406) 248-7701.
August 23, 2012 | 1 p.m.-4 p.m | Mystic Lake Casino Hotel, 2400 Mystic Lake Boulevard, Prior Lake, MN 55372, (952) 445-9000.
August 24, 2012 | 9 a.m.-12 p.m | Mohegan Sun Casino, 1 Mohegan Sun Boulevard, Uncasville, Connecticut 06382,(860) 862-7311.

Dated: July 27, 2012.
Donald E. Laverdure,
Acting Assistant Secretary—Indian Affairs.

[FR Doc. 2012-18891 Filed 7-30-12; 4:15 pm]

BILLING CODE 4310-02-P